DEPARTMENT OF HOMELAND SECURITY

Coast Guard

33 CFR Part 166

[Docket No. USCG-2024-0248]

RIN 1625-AC97

Shipping Safety Fairways in the Gulf of Maine

AGENCY: Coast Guard, DHS.

ACTION: Advance notice of proposed rulemaking.

SUMMARY: The Coast Guard seeks comments regarding the possible establishment of shipping safety fairways (“fairways”) in the Gulf of Maine identified in the Approaches to Maine, New Hampshire, and Massachusetts Port Access Route Study. This potential system of fairways is intended to ensure that traditional navigation routes are kept free from fixed structures that could impact navigation safety.

DATES: Comments and related material must be received by the Coast Guard on or before January 21, 2025.

ADDRESSES: You may submit comments identified by docket number USCG-2024-0248 using the Federal Decision-Making Portal at www.regulations.gov. See the “Public Participation and Request for Comments” portion of the SUPPLEMENTARY INFORMATION section for further instructions on submitting comments.

FOR FURTHER INFORMATION CONTACT: For information about this document call or email Mr. Brian Mottel, Coast Guard; telephone 202-372-1526, email David.B.Mottel2@uscg.mil.

SUPPLEMENTARY INFORMATION:

Table of Contents for Preamble

I. Public Participation and Request for Comments

II. Abbreviations

III. Basis and Purpose

IV. Background

V. Information Requested

I. Public Participation and Request for Comments

The Coast Guard views public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at www.regulations.gov. To do so, go to www.regulations.gov, type USCG-2024-0248 in the search box and click “Search.” Next, look for this document in the Search Results column, and click on it. Then click on the Comment option. If you cannot submit your material by using www.regulations.gov, call or email the person in the FOR FURTHER INFORMATION CONTACT section of this advance notice of proposed rulemaking for alternate instructions.

Viewing material in docket. To view documents mentioned in this advance notice of proposed rulemaking as being available in the docket, find the docket as described in the previous paragraph, and then select “Supporting & Related Material” in the Document Type column. Public comments will also be placed in our online docket and can be viewed by following instructions on the www.regulations.gov “Frequently Asked Questions” web page. That web page also explains how to subscribe for email alerts that will notify you when comments are posted or if a final rule is published. We review all comments received, but we will only post comments that address the topic of this advance notice of proposed rulemaking. We may choose not to post off-topic, inappropriate, or duplicate comments that we receive.

Personal information. We accept anonymous comments. Comments we post to www.regulations.gov will include any personal information you have provided. For more about privacy and submissions to the docket in response to this document, see the Department of Homeland Security's eRulemaking System of Records notice (85 FR 14226, March 11, 2020).

Public meeting. We do not plan to hold a public meeting, but we will consider doing so if we determine from public comments that a meeting would be helpful. We would issue a separate Federal Register notice to announce the date, time, and location of such a meeting.

II. Abbreviations

ANPRM Advance notice of proposed rulemaking

BOEM Bureau of Ocean Energy Management

CFR Code of Federal Regulations

DHS Department of Homeland Security

Fairways Shipping safety fairways

FR Federal Register

MNMPARS Approaches to Maine-New Hampshire-Massachusetts Port Access Route Study

NPRM Notice of proposed rulemaking

OCS Outer Continental Shelf

§ Section

TSS Traffic separation scheme

U.S.C. United States Code

WEA Wind Energy Area

III. Basis and Purpose

The purpose of this advance notice of proposed rulemaking (ANPRM) is to seek public input on the potential establishment of shipping safety fairways (“fairways”) in the Gulf of Maine. The fairway locations would be added to title 33 of the Code of Federal Regulations (CFR) part 166. The Approaches to Maine, New Hampshire, and Massachusetts Port Access Route Study (MNMPARS) ¹ found that fairways are needed to preserve safe navigation routes to and from U.S. ports throughout the study area, and recommended coordinates for these fairways. The Coast Guard is considering these coordinates as its starting point for the potential establishment of fairways in the Gulf of Maine.

¹ Port Access Route Study: Approaches to Maine, New Hampshire, and Massachusetts Final report, https://www.navcen.uscg.gov/sites/default/files/pdf/PARS/FINAL_REPORT_Approaches_to_Maine_New_Hampshire_and_Massachusetts_Port_Access_Route_Study.pdf. Last accessed July 5, 2024. A notice of availability for the MNMPARS was published April 6, 2023 (88 FR 20547).

Establishing the recommended fairways would prohibit artificial islands or fixed structures within designated areas and would reduce the risk of vessel collisions, allisions, and groundings. Fairways would also reduce the potential for increased transit time and associated economic impacts that could result from redirecting vessel traffic, should offshore structures be integrated into the Marine Transportation System on the outer continental shelf (OCS).

The MNMPARS and follow-on analysis confirmed the need to codify traditional routes into fairways in the study area. As such, the Coast Guard believes it is prudent to proceed with an ANPRM, followed by a notice of proposed rulemaking (NPRM) and final rule. This strategy enables robust engagement with interested persons who may not have contributed to the MNMPARS, supports further evolution of regulatory alternatives, enhances the Coast Guard's understanding of regional spatial planning needs, and reduces the need for a supplemental NPRM before a final rule.

The legal basis for the potential establishment of fairways is Title 46 of the United States Code (U.S.C.), section 70003; Department of Homeland Security (DHS) Delegation No. 00170.1(II)(70), Revision No. 01.4.

IV. Background

The First Coast Guard District conducted the MNMPARS from March 31, 2022, to April 6, 2023. The study concluded that vessels transiting in the vicinity of offshore renewable energy lease areas may be affected, especially near or within traditional vessel traffic routes. Existing traffic separation schemes (TSSs) are established for vessels entering and exiting the ports of Portland, ME and Boston, MA; however, the TSSs do not extend far enough into the OCS to account for planned offshore renewable energy development within the study area.

Currently, no commercial leases have been awarded in the MNMPARS study area; however, on March 15, 2024, the Bureau of Ocean Energy Management (BOEM) announced ² the designation of a Final Wind Energy Area (WEA) in the Gulf of Maine, containing approximately 2 million acres of Federal waters for potential leasing. The agency issued a Final Sale Notice on September 17, 2024, identifying the final lease areas that will be auctioned at an October 29, 2024 lease sale. A portion of BOEM's initially proposed lease areas (OCS-A-562 and OCS-A-563) overlapped the recommended Gulf of Maine Fairway identified in the MNMPARS. However, BOEM's Final Sale Notice removes the conflicting overlap with the recommended fairway in the final lease areas.

² “BOEM Finalizes Wind Energy Area in the Gulf of Maine and Announces Upcoming Environmental Review of Potential Offshore Wind Leasing Activities,” Bureau of Ocean Energy Management; https://www.boem.gov/newsroom/press-releases/boem-finalizes-wind-energy-area-gulf-maine-and-announces-upcoming. Last accessed April 23, 2024.

In addition, BOEM has finalized and issued a 15,000-acre research lease to the State of Maine with an effective date of Sep 1, 2024. The project would construct up to 12 floating wind turbines adjacent to the Eastern Approach TSS, which is approximately 20 nautical miles off the coast of Portland, ME. BOEM, USCG, and the state of Maine have worked together to deconflict the research lease with the recommended fairways and existing navigation safety systems. In order to provide a dependable and safe corridor for mariners in the area, the Coast Guard is considering an alternative fairway design for the Portland Eastern Approach Fairway that is different in design than the fairway recommended by the MNMPARS. This alternative fairway design is intended to meet vessel traffic needs, while also considering other uses of the waterway.

In summary, the Coast Guard is seeking input on the potential to establish four fairways, as recommended by the MNMPARS (Massachusetts Bay Fairway, Coastal Zone Fairway, Portland Southern Approach Fairway, and Gulf of Maine Fairway), and one fairway (Portland Eastern Approach Fairway) that is a different design than the fairway recommended by the MNMPARS.

V. Information Requested

In this ANPRM, the Coast Guard seeks information and your input to assist us in establishing, through a potential future rulemaking, fairways in the Gulf of Maine. The Coast Guard seeks public comments, positive or negative, on the impacts that the potential fairways may have on navigational safety and on other activities in these offshore areas to aid us in developing an NPRM and the supporting analyses.

Where possible and pertinent, please provide sources, citations, and references to back up or justify your responses. Also, for all pertinent responses, please provide a detailed explanation of how you arrived at this conclusion, and your underlying assessment that supports your conclusion. Finally, for all numerical responses, please provide us with sufficient information to recreate your calculations.

The following questions were designed to scope this process:

A. General Questions

The Coast Guard encourages all respondents to review and reference the MNMPARS, specifically the Executive Summary, Purpose, and Background sections, as well as the illustrations, when responding to the following questions. These resources can be found in the docket.

1. Do the recommended fairways provide safe and efficient routes for vessels transiting to and from international ports and the United States? Why or why not? If not, what would you recommend instead?

2. Are the recommended fairways described in this ANPRM necessary for ensuring a safe and orderly passage for vessels transiting among U.S. domestic ports of call? Why or why not? Please explain your answer, including your specific comments on how the fairways described in this ANPRM would affect maritime traffic patterns, navigational safety, and access to ports.

3. Are there any positive or negative impacts of not establishing the recommended fairways noted in this ANPRM? If so, please describe them.

4. If these recommended fairways are established, how would commercial fishing vessels be positively or negatively impacted?

5. If these recommended fairways are established, what other persons, entities, or organizations would be positively or negatively impacted? In other words, which groups of people, businesses, or industries (maritime and non-maritime) would be positively or negatively impacted by these potential fairways?

6. What other offshore uses may be positively or negatively affected by the recommended fairways? Please include specific locations, potential impact, and associated costs or benefits. Please also describe the safety significance of the recommended fairways on the activity.

7. Do the recommended fairways unduly limit offshore development? If so, is there information on costs, or cost model or structure that should be considered for analysis?

8. From an environmental perspective, would the recommended fairways (on traditional routes) negatively impact living marine resources? If so, which marine resources would be impacted and how? What measures should the Coast Guard take to avoid, minimize, or mitigate any such impacts?

9. Beyond the environmental impacts mentioned in question 8, are there any other positive or negative environmental impacts from the recommended fairways? If so, please provide detail as to how and what would be impacted. To the degree possible, please provide the data, impact assessments, and other pertinent background information necessary to understand and reproduce your results.

10. Are there additional measures that should be considered to improve safety or to relieve the area should an economic burden be imposed by the recommended fairways? What are the expected costs and/or associated benefits of the suggested additional measures?

11. Are there other variables that should be considered in developing this system of recommended fairways? If so, please indicate particular issues and the specific areas to which they pertain.

12. Have there been any offshore developments built or installed in the past 10 years that have impacted traffic patterns, navigational safety, or maritime commerce? If so, were the net impacts positive or negative? Please provide a detailed explanation of how you arrived at this conclusion.

13. Please offer any other comments or suggestions that may improve this initiative.

B. Portland Eastern Approach Fairway

The Coast Guard is proposing a Portland Eastern Approach Fairway that is slightly different in design than the fairway recommended by the MNMPARS. The fairway contemplated in this ANPRM is designed to meet the needs of vessel traffic entering and departing the Port of Portland via the Eastern Approach TSS, while also considering the state of Maine's lease adjacent to the TSS to develop a 15,000-acre research array of up to 12 floating offshore wind turbines.

1. Are there any positive or negative impacts from the recommended Portland Eastern Approach Fairway? Please explain your answer, including specific comments on how this recommended fairway would affect maritime traffic patterns, navigational safety, marine or other environmental resources, and access to ports.

2. Does the recommended Portland Eastern Approach Fairway provide a safe and efficient route for vessels transiting to and from the Eastern Approach TSS? Why or why not? If not, what would you recommend instead?

3. Would the recommended Portland Eastern Approach Fairway have any positive or negative environmental impacts?

4. Would the recommended Portland Eastern Approach Fairway have any positive or negative tribal impacts?

C. Gulf of Maine Fairway

The Coast Guard is proposing a Gulf of Maine Fairway to meet the needs of vessel traffic primarily proceeding between Boston, Massachusetts, and the Bay of Fundy. The Coast Guard may consider design alternatives to the recommended Gulf of Maine Fairway to ensure safe transit for vessels, while providing ocean space for wind energy leasing.

1. Are there any positive or negative economic impacts from the recommended Gulf of Maine Fairway?

2. Is the recommended Gulf of Maine Fairway necessary to provide safe and efficient routes for vessels transiting to and from domestic and international ports? Why or why not? If not, what would you recommend instead?

3. What are the positive or negative vessel transit impacts to altering the recommended fairway's design, location, and characteristics, such as narrower width and change in cardinal direction? Please explain your answer, including specific comments on how any changes to this recommended fairway would affect maritime traffic patterns, navigational safety, marine or other environmental resources, and access to ports.

4. What other offshore uses may be positively or negatively impacted by alteration to this recommended fairway design, location, and characteristics, such as narrower width and change in cardinal direction? Please include specific locations, potential impact, and associated costs or benefits. Please also describe the safety significance of alterations to this recommended fairway on other offshore use activity.

5. If this fairway is established as recommended, what persons, entities, or organizations would be positively or negatively impacted? In other words, which groups of people, businesses, or industries (maritime and non-maritime) would be positively or negatively impacted by this recommended fairway?

6. Would the recommended Gulf of Maine Fairway have any positive or negative environmental impacts?

7. Would the recommended Gulf of Maine Fairway have any positive or negative tribal impacts?

Linda L. Fagan,
Admiral, U.S. Coast Guard, Commandant.

[FR Doc. 2024-26830 Filed 11-18-24; 8:45 am]

BILLING CODE 9110-04-P